DEPARTMENT OF AGRICULTURE

Forest Service

Rio Sabana Day Use Picnic Area, Caribbean National Forest, Naguabo, Puerto Rico; Revised Notice of Intent To Prepare an Environmental Impact Statement

AGENCY: Forest Service, USDA.

ACTION: Revised notice.

SUMMARY: This notice is to announce that the Caribbean National Forest is revising the date for filing a Draft Environmental Impact Statement (DEIS) for the Rio Sabana Day Use Picnic Area; and that the USDA Forest Service and the Puerto Rico Department of Transportation and Public works have agreed to act as joint lead agencies in the preparation of the EIS. This revises the notice of intent for this project, originally published in the Federal Register on Friday, September 18, 1998, Vol. 63, No. 181, pp. 49894-49895, and revised notices of intent published December 21, 1998, Vol. 63, No. 244, pp. 70385-70386; and December 28, 1998, Vol. 63, No. 248, pp. 71441-71442. The agency expects to file a DEIS with the Environmental Protection Agency (EPA) and make it available for public comment March 2001.

DATES: Comments on the DEIS, to be considered in the preparation of the Final Environmental Impact Statement (FEIS), must be received 45 days following the publication of notice of availability of the DEIS.

ADDRESSES: Send written comments to Ricardo Garcia, Forest Planner; Caribbean National Forest, P.O. Box 490, Palmer, Puerto Rico 00721.

FOR FURTHER INFORMATION CONTACT: Ricardo Garcia, Forest Planner, 787-888-5640.

SUPPLEMENTARY INFORMATION: The Caribbean National Forest is proposing to develop a day use picnic area located in the vicinity of the Rio Sabana Bridge, on Highway PR 191 at Km. 20.0, in the Cubuy Sector of the Municipality of Naguabo, and to reconstruct the Rio Sabana Trail (approximately 2.5 miles). In order to provide vehicular access to the proposed picnic area, the Puerto Rico Department of Transportation and Public Works is proposing to reconstruct the section of Highway PR 191 from Km. 21.3 to Km. 20.0 (approximately 0.8 miles), that is currently closed to public traffic.

Scoping actions which have been completed to date include: (1) a field trip to the site with local residents, elected officials, and agency representatives (2/4/98); (2) a meeting with interested parties at a local residence (2/23/98); (3) a meeting with Rep. Robert Baez, Puerto Rico House of Representatives (8/28/98); and (4) mailing of scoping letters to approximately 75 potentially interested individuals, organizations and government agencies (12/98).

The following preliminary issues have been identified through scoping; (1) lack of developed recreation sites and trails on the south side of the Forest; (2) inadequate budget for operation and maintenance of additional recreation facilities on the Forest; (3) possible adverse impacts on wilderness values; (4) possible adverse impacts on primary forest and endangered, threatened or sensitive plants or animals; (5) potential for increased soil erosion and stream sedimentation; (6) possible improvement in water quality due to providing toilets at the site which is receiving heavy recreation use; (7) possible adverse impacts on cultural resources; (8) potential for increased traffic congestion on Highway PR 191; and (9) potential to increase law enforcement and public safety problems.

A DEIS is expected to be available for public review, beginning about March 2001. The comment period on the DEIS will be 45 days from the date the EPA publishes the notice of availability in the Federal Register.

The Forest Service believes, at this early stage it is important to give reviewers notice of several court rulings related to public participation in the environmental review process. First, reviewers of DEIS, must structure their participation in the environmental review of the proposal so that it is meaningful and alerts an agency to the reviewer's position and contentions. Vermont Yankee Nuclear Power Corp. v. NRDC, 435 U.S. 519, (1978). Also, environmental objections that could be raised at the DEIS stage, but that are not raised until after completion of the FEIS, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period (45 days after publication in the Federal Register of the notice of availability of the DEIS, estimated to be March 2001) so that substantive comments and objections are made available to the Forest Service at a time when it can meaningfully consider them and respond to them in the FEIS.

To assist the Forest Service in identifying and considering issues and concerns on the proposed action, comments on the DEIS should be as specific as possible, It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

After the comment period on the DEIS ends, the comments will be analyzed, considered, and responded to by the Forest Service in preparing the FEIS. The Responsible Official will consider the comments, responses, environmental consequences discussed in the FEIS, and applicable laws, regulations, and policies in making a decision. The Responsible Official will document the decision and rationale for the decision in a Record of Decision.

The decision will be subject to appeal in accordance with 36 CFR Part 215. The Responsible Official is: Pablo Cruz, Forest Supervisor, Caribbean National Forest, P.O. Box 490, Palmer, Puerto Rico 00721.

Dated: December 1, 2000.
Pablo Cruz,
Forest Supervisor.

[FR Doc. 00-33033 Filed 12-27-00; 8:45 am]

BILLING CODE 3410-11-M